FEDERAL COMMUNICATIONS COMMISSION

47 CFR Part 73

[FCC 04-118; MM Docket Nos. 96-7, 96-12, RM-8732, RM-8845, RM-8741; File No. BPH-960206IE]

Radio Broadcasting Services; Banks, Corvallis, Redmond, Sunriver, The Dalles, OR

AGENCY: Federal Communications Commission.

ACTION: Final rule; application for review, denied.

SUMMARY: This document denies an Application for Review of a Memorandum Opinion and Order, 66 FR 9676 (February 9, 2001), filed jointly by Madgekal Broadcasting, Inc. and Jacor Licensee of Louisville, Inc., former and current licensee, respectively, of Station KFLY (FM), Corvallis, Oregon. That Memorandum Opinion and Order denied reconsideration of a Report and Order 63 FR 19663 (April 21, 1998) that denied a settlement agreement providing for a $950,000 payment, denied a one-step upgrade application for Station KFLY(FM) at Corvallis from Channel 268C2 to Channel 268C, and granted two petitions for rulemaking: one proposing the upgrade of Station KVMX(FM), Banks, Oregon, from Channel 298C2 to Channel 298C1, the substitution of Channel 269C2 for Channel 298C2 at Redmond, Oregon, and one proposing the allotment of Channel *268C3 at The Dalles. The document also revises the site for the allotment of Channel *268C3 at The Dalles to ensure that the community will receive city-grade coverage. The coordinates for that site are: 45-31-28 NL and 121-07-22 WL. The document also rejected two other arguments as untimely.

FOR FURTHER INFORMATION CONTACT: Victoria M. McCauley, Media Bureau, (202) 418-2180.

SUPPLEMENTARY INFORMATION: This is a synopsis of the Commission's Memorandum Opinion and Order in MM Docket Nos. 96-7, and 96-12, adopted May 25, 2004 and released May 27, 2004. The full text of this Commission decision is available for inspection and copying during normal business hours in the FCC's Reference Information Center at Portals II, CY-A257, 445 12th Street, SW., Washington, DC. This document may also be purchased from the Commission's duplicating contractors, Best Copy and Printing, Inc. (BCPI), Portals II, 445 12th Street, SW., Room CY-B402, Washington, DC, 20554, Customers may contact BCPI at their Web site: http://www.bcpiweb.com or call 1-800-378-3160.

Federal Communications Commission.
Marlene H. Dortch,
Secretary.

[FR Doc. 04-14118 Filed 6-21-04; 8:45 am]

BILLING CODE 6712-01-P